FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

World Export & Logistics, Inc., 8600 NW 64th Street, Miami, FL 33168. Officers: Roberto Acevedo, Secretary, (Qualifying Individual) Celia Leon, President.

LCL Logistic LLC, 18411 Crenshaw Blvd., Torrance, CA 90504. Officers: Van T. Phung, Secretary, (Qualifying Individual), Christopher T. Le, President.

Aramex International Courier, Ltd. dba Aramex, 147-29 182nd Street, Jamaica, NY 11413. Officers: Pedro Freire, Vice President (Qualifying Individual).

Non-Vessel Operating Common Carrier and Ocean Freight Forwarder Transportation Intermediary Applicant

Richard Murray & Company, Inc. dba Plainsman Shipping Co., 109 N. Conception Street, Suite 100, Mobile, AL 36602. Officer: Edward F. Murray, Jr., President (Qualifying Individual).

Ocean Freight Forwarder—Ocean Transportation Intermediary Applicant

Planet Freight Services, Inc., 1744 NW 82nd Avenue, Doral, FL 33126, Officer: Marco A. Oliveira, President (Qualifying Individual),

Dated: May 16, 2008.
Karen V. Gregory,
Assistant Secretary.

[FR Doc. E8-11389 Filed 5-20-08; 8:45 am]

BILLING CODE 6730-01-P